NATIONAL COMMISSION ON LIBRARIES AND INFORMATION SCIENCE

NCLIS Closed Meeting

AGENCY: U.S. National Commission on Libraries and Information Science (NCLIS).

ACTION: Notice of meeting.

DATE AND TIME: NCLIS Closed Meeting—May 2, 2006, 1:30 p.m.-5:30 p.m.

ADDRESSES: National Library of Medicine, Conference Room B, located in NIH Building 38, Room 2S04, 8600 Rockville Pike, Bethesda, Maryland 20894.

STATUS: Closed meeting.

SUMMARY: The U.S. National Commission on Libraries and Information Science is holding a closed meeting to review budget matters and future directions. Closing this meeting is in accordance with the exemption provided under Title 45, CFR 1703.202(a)(9).

FOR FURTHER INFORMATION CONTACT: Madeleine McCain, Director of Operations, U.S. National Commission on Libraries and Information Science, 1800 M Street, NW., Suite 350 North Tower, Washington, DC 20036, e-mail mmccain@nclis.gov, fax 202-606-9203 or telephone 202-606-9200.

Dated: April 18, 2006.
Trudi Bellardo Hahn,
NCLIS Executive Director.

[FR Doc. E6-6044 Filed 4-20-06; 8:45 am]

BILLING CODE 7528-01-P